DEPARTMENT OF LABOR

Employee Benefits Security Administration

[Prohibited Transaction Exemption (PTE) 2016-08; Exemption Application No. D-11866]

Baxter International Inc. (Baxter); Located in Deerfield, IL

AGENCY: Employee Benefits Security Administration, Department of Labor.

ACTION: Notice of technical correction.

On October 19, 2016, the Department published PTE 2016-08 in the Federal Register at 81 FR 72119. PTE 2016-08 is an administrative exemption from the prohibited transaction provisions of the Employee Retirement Income Security Act of 1974 (the Act), and the Internal Revenue Code of 1986, that permits Baxter International Inc. to contribute publicly traded common stock of Baxalta (the Contribution) to the Baxter International Inc. and Subsidiaries Pension Plan.

Due to a technical error, the effective date of the grant notice is incorrect. Accordingly, the Department is hereby revising that notice. On page 72120 of the grant notice, the third full paragraph beginning with “Effective Date” is revised to read:

This exemption is effective as of May 2, 2016, the date the Contribution was initiated by Baxter.

FOR FURTHER INFORMATION CONTACT: Mr. Erin Hesse of the Department, telephone (202) 693-8546. (This is not a toll-free number).

Signed at Washington, DC, this 28th day of April, 2017.
Lyssa E. Hall,
Director, Office of Exemption Determinations, Employee Benefits Security Administration, U.S. Department Of Labor.

[FR Doc. 2017-09838 Filed 5-15-17; 8:45 am]

BILLING CODE 4510-29-P